DEPARTMENT OF COMMERCE

Foreign-Trade Zones Board

[Order No. 1453]

Grant of Authority for Subzone Status, Northern Imports, LLC(Magnesium and Aluminum Diecasting), Harbor Springs and Newberry, Michigan

Pursuant to its authority under the Foreign-Trade Zones Act of June 18, 1934, as amended (19 U.S.C. 81a-81u), the Foreign-Trade Zones Board (the Board) adopts the following Order:

Whereas, the Foreign-Trade Zones Act provides for “. . . the establishment . . . of foreign-trade zones in ports of entry of the United States, to expedite and encourage foreign commerce, and for other purposes,” and authorizes the Foreign-Trade Zones Board (the Board) to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the City of Sault Sainte Marie, Michigan, grantee of Foreign-Trade Zone 16, has made application for authority to establish special-purpose subzone status at the magnesium and aluminum diecasting facilities of Northern Imports, LLC, located in Harbor Springs and Newberry, Michigan (Docket 3-2005, filed 1-7-2005);

Whereas, notice inviting public comment was given in the Federal Register (70 FR 2997, 1-19-2005); and,

Whereas, the Board adopts the findings and recommendations of the examiner's report, and finds that the requirements of the FTZ Act and Board's regulations would be satisfied, and that approval of the application would be in the public interest if approval were subject to restriction;

Now, therefore, the Board hereby grants authority for activity related to magnesium and aluminum diecasting at the manufacturing facilities of Northern Imports, LLC, located in Harbor Springs and Newberry, Michigan (Subzone 16A), as described in the application and Federal Register notice, subject to the FTZ Act and the Board's regulations, including Section 400.28, and further subject to a restriction requiring that all foreign-origin magnesium alloy products not subject to U.S. antidumping or countervailing duty orders must be admitted to the subzone under privileged foreign status (19 CFR §146.41) when used to manufacture finished products for the U.S. market.

Signed at Washington, DC, this 31st day of May 2006.

David M. Spooner,
Assistant Secretary of Commerce for Import Administration, Alternate Chairman, Foreign-Trade Zones Board.
Attest:
Dennis Puccinelli,
Executive Secretary.

[FR Doc. E6-10106 Filed 6-26-06; 8:45 am]

BILLING CODE 3510-DS-S